DEPARTMENT OF LABOR

Comment Request for Information Collection for OMB 1205-0430, Resource Justification Model (RJM); Extension With Revisions

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

Currently, ETA is soliciting comments concerning the proposed extension, with change on Resource Justification Model.

DATES: Written comments must be submitted to the office listed in the addressee section below on or before May 1, 2015.

ADDRESSES: Send written comments to Thomas Stengle, Office of Unemployment Insurance, Employment and Training Administration, U.S. Department of Labor, 200 Constitution Avenue NW., Washington, DC 20210, telephone number (202) 693-2991 (this is not a toll-free number). Email address is stengle.thomas@dol.gov and fax number is (202) 693-2874 (this is not a toll-free number). To obtain a copy of the proposed information collection request (ICR), please contact the person listed above.

SUPPLEMENTARY INFORMATION:

I. Background

The collection of actual Unemployment Insurance (UI) administrative cost data from states' accounting records and projected expenditures for upcoming years is accomplished through the Resource Justification Model (RJM) data collection instrument. The data collected consists of program expenditures and hours worked by state staff, broken out by functional activity, for the most recent two years of expenditures. This actual cost data in combination with projected workloads is used by ETA's UI administrative resource allocation model to distribute to states UI program administration funds.

The RJM data collection instrument had not been reviewed since it was implemented in 2002 and both the states and DOL felt it would be beneficial to determine if the process could be modified to reduce the burden of assembling and reviewing the information and if the information collected is appropriate (because, for example, the increasing use of technology to administer the UI program has significantly changed the UI business model). The DOL partnered with the National Association of State Workforce Agencies (NASWA) to form a workgroup tasked with determining improvements to the RJM and three changes were agreed upon. The workgroup decided to reduce the categories of existing Non-Personal Services (NPS) categories from eight to three: Information technology (IT)/Communications, Non IT NPS, and Personal Service Contracts. The workgroup also decided to discontinue the requirement for states to submit hard copy note books containing the supporting documentation. Both of these changes reduce respondent burden. In addition, the workgroup decided to add a requirement for states to report separately Personal Services and Personal Benefits for IT expenditures, which did not exist previously.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

III. Current Actions

Type of Review: Extension with revisions.

Title: Resource Justification Model.

OMB Number: 1205-0430.

Affected Public: State Workforce Agencies.

Estimated Total Annual Respondents: 53 State Workforce Agencies.

Frequency: Annually.

Estimated Total Responses: 53 respondents × 4 annual reports submitted = 212 responses.

Average Estimated Response Time: 109.5 hours (a reduction of 13.5 hours per response from the previously approved collection).

Total Estimated Burden Hours: 5,592 hours (a reduction of 715 hours from the previously approved collection).

Form/activity | Total respondents | Frequency | Total responses | Average time per response (hours) | Total estimated burden (hours)
Crosswalk | 53 | Annually | 53 | 94.5 | 5,009
Account Summary | 53 | Annually | 53 | 4.0 | 212
RJM 1-6 | 53 | Annually | 53 | 3.0 | 159
IT PS/PB Expenditures | 53 | Annually | 53 | 8.0 | 424
Totals |  |  | 212 | 109.5 | 5,804

Total Burden Cost (capital/startup): $15,000.

Total Burden Cost (operating/maintaining): $0.

We will summarize and/or include in the request for OMB approval of the ICR, the comments received in response to this comment request; they will also become a matter of public record.

Portia Wu,
Assistant Secretary for Employment and Training, Labor.

[FR Doc. 2015-04165 Filed 2-27-15; 8:45 am]

BILLING CODE 4510-FW-P